SECURITIES AND EXCHANGE COMMISSION

Sunshine Act Meeting

Federal Register Citation of Previous Announcement: [70 FR 17270, April 5, 2005].

Status: Open meeting.

Place: 450 Fifth Street, NW., Washington, DC.

Date and Time of Previously Announced Meeting: Wednesday, April 6, 2005 at 10 a.m.

Change in the Meeting: Additional item.

The following item has been added to the open meeting scheduled for Wednesday, April 6, 2005 as part of consideration of whether to adopt Regulation NMS:

In addition, the Commission will consider whether to adopt a technical amendment jointly with the Commodity Futures Trading Commission to make conforming changes in the language of Rule 3a55-1 under the Exchange Act.

Commissioner Campos, as duty officer, determined that Commission business required the above change and that no earlier notice thereof was possible.

At times, changes in Commission priorities require alterations in the scheduling of meeting items. For further information and to ascertain what, if any, matters have been added, deleted or postponed, please contact the Office of the Secretary at (202) 942-7070.

Dated: April 5, 2005.
Jonathan G. Katz,
Secretary.

[FR Doc. 05-7186 Filed 4-6-05; 11:57 am]

BILLING CODE 8010-01-P